DEPARTMENT OF COMMERCE

National Oceanic and Atmospheric Administration

RIN 0648-XG211

New England Fishery Management Council; Public Meeting

AGENCY: National Marine Fisheries Service (NMFS), National Oceanic and Atmospheric Administration (NOAA), Commerce.

ACTION: Notice of public hearings.

SUMMARY: The New England Fishery Management Council (Council) will hold six public hearings and one webinar to solicit Public comments on Draft Amendment 8 to the Atlantic Herring Fishery Management Plan (FMP).

DATES: Written Public comments must be received on or before 5 p.m. EST, June 25, 2018. The meetings will be held between May 22 and June 20, 2018. For specific dates and times, see SUPPLEMENTARY INFORMATION.

ADDRESSES: The hearing documents are accessible electronically via the internet https://www.nefmc.org/library/amendment-8-2 or by request to Thomas A. Nies, Executive Director. New England Fishery Management Council, 50 Water Street, Mill 2, Newburyport, MA 01950; telephone: (978) 465-0492.

Meeting addresses: The meetings will be held in Narragansett, RI; Rockport, ME; Gloucester, MA; Philadelphia, PA; Portland, ME and Chatham, MA. For specific locations, see SUPPLEMENTARY INFORMATION.

Public comments: Mail to NEFMC, New England Fishery Management Council, 50 Water Street, Mill 2, Newburyport, MA 01950. Mark the outside of the envelope “DEIS for Amendment 8 to the Atlantic Herring FMP”. Comments may also be sent via fax to 978-465-3116 or submitted via email to comments@nefmc.org with “DEIS for Amendment 8 to the Atlantic Herring FMP” in the subject line.

FOR FURTHER INFORMATION CONTACT: Thomas A. Nies, Executive Director, New England Fishery Management Council; telephone: (978) 465-0492.

SUPPLEMENTARY INFORMATION:

Agenda

The agenda for the following six hearings is as follows: NEMFC staff will brief the public on the herring amendments and the contents of the DEIS prior to opening the hearing for public comments and the schedule is as follows:

Public Hearings: Locations, Schedules, and Agendas

1. Tuesday, May 22, 2018 from 6-8 p.m.; University of Rhode Island, 215 S. Ferry Road, Narragansett, RI 02882; phone: (401) 423-1943.

2. Thursday, May 24, 2018 from 6-8 p.m.; Samoset Hotel, 220 Warrenton Street, Rockport, ME 04856; phone: (207) 594-2511.

3. Wednesday, May 30, 2018 from 6-8 p.m.; Beauport Hotel; 55 Commercial Street, Gloucester, MA; phone: (978) 282-0008.

4. Tuesday, June 5, 2018 from 4-5 p.m.; DoubleTree by Hilton, 237 South Broad Street, Philadelphia, PA 19107; phone: (215) 893-1600.

5. Tuesday, June 12, 2018 from 4-6 p.m.; Holiday Inn By the Bay, 88 Spring Street, Portland, ME 04101; phone: (207) 775-2311.

6. Tuesday, June 19, 2018 from 6-8 p.m.; Chatham Community Center, 702 Main Street, Chatham, MA 02633; phone: (508) 945-5159.

7. Wednesday, June 20, 2018 from 2-4 p.m.—Webinar Registration— https://attendee.gotowebinar.com/register/6985865165132506115.

Call in information: (415) 930-5321; Access Code: 346-818-026.

Additional information on the review is available on the Council website, www.nefmc.org. The public also should be aware that the hearings will be recorded. Consistent with 16 U.S.C. 1852, a copy of the recording is available upon request.

Special Accommodations

These meetings are physically accessible to people with disabilities. Requests for sign language interpretation or other auxiliary aids should be directed to Thomas A. Nies, Executive Director, at (978) 465-0492, at least 5 days prior to the meeting date.

Authority: 16 U.S.C. 1801 et seq.

Dated: May 3, 2018.
Tracey L. Thompson,
Acting Deputy Director, Office of Sustainable Fisheries, National Marine Fisheries Service.

[FR Doc. 2018-09795 Filed 5-7-18; 8:45 am]

BILLING CODE 3510-22-P